DEPARTMENT OF HEALTH AND HUMAN SERVICES

Administration for Children and Families

Retraction of Notice on Training of Child Welfare Agency Supervisors in the Effective Delivery and Management of Federal Independent Living Services

AGENCY: Administration on Children, Youth and Families, ACF, HHS.

ACTION: Notice.

SUMMARY: The Administration on Children, Youth and Families' Children's Bureau is retracting the Notice of Availability for Grants and Cooperative Agreements for the Training of Child Welfare Agency Supervisors in the Effective Delivery and Management of Federal Independent Living Services that was published in the Federal Register on Monday, April 19, 2004, due to availability of funds.

FOR FURTHER INFORMATION CONTACT: Please contact Janice P. Shafer at 205-8172 if you have questions concerning this retraction.

Dated: April 23, 2004.
Joan E. Ohl,
Commissioner, Administration on Children, Youth and Families.

[FR Doc. 04-9782 Filed 4-29-04; 8:45 am]

BILLING CODE 4184-01-M